DEPARTMENT OF TRANSPORTATION

Federal Aviation Administration

14 CFR Part 39

[Docket No. FAA-2011-0389; Directorate Identifier 2007-NM-189-AD; Amendment 39-16769; AD 2011-17-05]

RIN 2120-AA64

Airworthiness Directives; Airbus Model A300 B2-1C, A300 B2-203, A300 B2K-3C, A300-B4-103, A300 B4-203, and A300 B4-2C Airplanes

AGENCY: Federal Aviation Administration (FAA), Department of Transportation (DOT).

ACTION: Final rule.

SUMMARY: We are superseding an existing airworthiness directive (AD) that applies to the products listed above. This AD results from mandatory continuing airworthiness information (MCAI) originated by an aviation authority of another country to identify and correct an unsafe condition on an aviation product. The MCAI describes the unsafe condition as:

* * * [C]racks * * * in sections 13 to 18 of the fuselage between rivets of longitudinal lap joints between frames 18 and 80 which could affect the structural integrity of the fuselage if not corrected.

* * * * *

We are issuing this AD to require actions to correct the unsafe condition on these products.

DATES: This AD becomes effective November 16, 2011.

The Director of the Federal Register approved the incorporation by reference of certain publications listed in this AD as of November 16, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on May 10, 2011 (76 FR 26962), and proposed to supersede AD 90-01-10, Amendment 39-6448 (55 FR 261, January 4, 1990). That NPRM proposed to correct an unsafe condition for the specified products. The MCAI states:

This Airworthiness Directive (AD) is issued in order to prevent cracks development in sections 13 to 18 of the fuselage between rivets of longitudinal lap joints between frames 18 and 80 which could affect the structural integrity of the fuselage if not corrected.

This new AD:

—Retains the requirements of DGAC AD 1989-061-092(B)R4 [which corresponds to FAA AD 90-01-10 (55 FR 261, January 4, 1990)], which is cancelled;

—Takes into account a new inspection program as detailed in AIRBUS Service Bulletins (SB) A300-53-0211 Revision 7, which will allow A300 aircraft to reach the Limit of Validity (LOV).

This AD has been republished to correctly refer to SB A300-53-0211 in Note 2 of the Compliance section.

The inspection program consists of repetitive detailed inspections for disbonding and cracking of the fuselage inner doubler; eddy current and ultrasonic inspections of the fuselage longitudinal lap joints for cracking; and repair if necessary (i.e., repairing any cracking or disbonding, or contacting Airbus for repair instructions and doing the repair). You may obtain further information by examining the MCAI in the AD docket.

Comments

We gave the public the opportunity to participate in developing this AD. We received no comments on the NPRM (76 FR 26962, May 10, 2011) or on the determination of the cost to the public.

Clarification of Service Bulletin References

Paragraphs (h)(1) and (j)(1) of the NPRM (76 FR 26962, May 10, 2011) refer to Airbus Mandatory Service Bulletin A300-53-0211 as the service information for airplanes on which an inspection of the longitudinal lap joints has been done. For clarity, we have revised the paragraphs to refer to the latest service bulletin revision and, therefore, we have revised paragraphs (h)(1) and (j)(1) of this AD to refer to Airbus Mandatory Service Bulletin A300-53-0211, Revision 07, dated December 1, 2006.

Paragraphs (l)(1), (1)(2), (m)(1), (m)(2), (n)(1), (n)(2), (o)(1), and (o)(2) of the NPRM (76 FR 26962, May 10, 2011) refer to Airbus Service Bulletin A300-53-229 for the definition of “major” and “minor” disbonding. For clarity, we have revised the paragraphs to refer to the latest service bulletin revision and, therefore, we have revised paragraphs (l)(1), (1)(2), (m)(1), (m)(2), (n)(1), (n)(2), (o)(1), and (o)(2) of this AD to refer to Airbus Service Bulletin A300-53-229, Revision 5, dated April 8, 1997.

Conclusion

We reviewed the available data and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 5 products of U.S. registry.

We estimate that it will take about 3,735 work-hours per product to comply with the new basic requirements of this AD. The average labor rate is $85 per work-hour. Based on these figures, we estimate the cost of the AD on U.S. operators to be $1,587,375, or $317,475 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 26962, May 10, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-6448 (55 FR 261, January 4, 1990) and adding the following new AD:

2011-17-05 Airbus: Amendment 39-16769. Docket No. FAA-2011-0389; Directorate Identifier 2007-NM-189-AD.

Effective Date

(a) This airworthiness directive (AD) becomes effective November 16, 2011.

Affected ADs

(b) This AD supersedes AD 90-01-10, Amendment 39-6448 (55 FR 261, January 4, 1990).

Applicability

(c) This AD applies to Airbus Model A300 B2-1C, A300 B2-203, A300 B2K-3C, A300-B4-103, A300 B4-203, and A300 B4-2C airplanes; certificated in any category; serial numbers 0003 through 0156 inclusive.

Subject

(d) Air Transport Association (ATA) of America Code 53: Fuselage.

Reason

(e) The mandatory continuing airworthiness information (MCAI) states:

This Airworthiness Directive (AD) is issued in order to prevent cracks development in sections 13 to 18 of the fuselage between rivets of longitudinal lap joints between frames 18 and 80 which could affect the structural integrity of the fuselage if not corrected.

This new AD:

—Retains the requirements of DGAC AD 1989-061-092(B)R4 [which corresponds to FAA AD 90-10-10 (55 FR 261, January 4, 1990)], which is cancelled;

—Takes into account a new inspection program as detailed in AIRBUS Service Bulletins (SB) A300-53-0211 Revision 7, which will allow A300 aircraft to reach the Limit of Validity (LOV).

This AD has been republished to correctly refer to SB A300-53-0211 in Note 2 of the Compliance section.

The inspection program consists of repetitive detailed inspections for disbonding and cracking of the fuselage inner doubler; eddy current and ultrasonic inspections of the fuselage longitudinal lap joints for cracking; and repair if necessary (i.e., repairing any cracking or disbonding, or contacting Airbus for repair instructions and doing the repair).

Compliance

(f) You are responsible for having the actions required by this AD performed within the compliance times specified, unless the actions have already been done.

Repetitive Inspections of “Special Areas” and Repair or Modification if Necessary

(g) For airplanes on which an eddy current inspection of the “special” areas of the longitudinal lap joints has not been done as of the effective date of this AD in accordance with Airbus Mandatory Service Bulletin A300-53-0211: Prior to the accumulation of 24,000 total flight cycles, or within 2,000 flight cycles after the effective date of this AD, whichever occurs later; do an eddy current inspection for cracking of the “special” areas of the longitudinal lap joints, in accordance with the Accomplishment Instructions of Airbus Mandatory Service Bulletin A300-53-0211, Revision 07, dated December 1, 2006. If no cracking is found, repeat the inspection thereafter at the applicable intervals specified in Table 1 of this AD. If any crack is found during any inspection required by this paragraph, repair or modify before further flight, in accordance with the Accomplishment Instructions of Airbus Mandatory Service Bulletin A300-53-0211, Revision 07, dated December 1, 2006; and do the applicable inspection of the repaired or modified area in accordance with paragraph (k) of this AD. “Special” areas of the longitudinal lap joints are defined in Airbus Mandatory Service Bulletin A300-53-0211, Revision 07, dated December 1, 2006.

Table 1—Repetitive Intervals for Inspecting Special Areas of the Longitudinal Lap Joints
For airplanes— | Inspect special area— | Repeat at intervals not to exceed—
All | STGR5 LH and RH (FR54 through FR58) | 3,600 flight cycles.
All | STGR22 LH and RH (FR26 through FR40) | 2,700 flight cycles.
All | STGR22 RH (FR58 through FR65) | 3,000 flight cycles.
All | STGR31 LH/RH (FR26 through FR39) | 3,000 flight cycles.
MSN 0003 | STGR31 LH/RH (FR54 through FR58) | 3,600 flight cycles.

(h) For airplanes on which an eddy current inspection of the “special” areas of the longitudinal lap joints has been done before the effective date of this AD in accordance with the Accomplishment Instructions of Airbus Mandatory Service Bulletin A300-53-0211; except for airplanes on which a repair or modification of the “special” areas has been done in accordance with the Accomplishment Instructions of Airbus Mandatory Service Bulletin A300-53-0211: Do the next inspection of the “special” areas of the longitudinal lap joints at the earlier of the times specified in paragraphs (h)(1) and (h)(2) of this AD, in accordance with the Accomplishment Instructions of Airbus Mandatory Service Bulletin A300-53-0211, Revision 07, dated December 1, 2006. If no cracking is found, repeat the inspection thereafter at the applicable intervals specified in Table 2 of this AD. If any crack is found during any inspection required by this paragraph, repair or modify before further flight, in accordance with the Accomplishment Instructions of Airbus Mandatory Service Bulletin A300-53-0211, Revision 07, dated December 1, 2006, and do the applicable inspection of the repaired or modified area in accordance with paragraph (k) of this AD. “Special” areas of the longitudinal lap joints are defined in Airbus Mandatory Service Bulletin A300-53-0211, Revision 07, dated December 1, 2006.

(1) Within 6,000 flight cycles after doing the last inspection of the “special” areas of the longitudinal lap joints, in accordance with Airbus Mandatory Service Bulletin A300-53-0211, Revision 07, dated December 1, 2006.

(2) Within the applicable intervals specified in Table 2 of this AD, or within 60 days after the effective date of this AD, whichever occurs later.

Table 2—Repetitive Intervals for Inspecting Special Areas of the Longitudinal Lap Joints
For airplanes— | Inspect special area— | Repeat at intervals not to exceed—
All | STGR5 LH and RH (FR54 through FR58) | 3,600 flight cycles.
All | STGR22 LH and RH (FR26 through FR40) | 2,700 flight cycles.
All | STGR22 RH (FR58 through FR65) | 3,000 flight cycles.
All | STGR31 LH/RH (FR26 through FR39) | 3,000 flight cycles.
MSN 0003 | STGR31 LH/RH (FR54 through FR58) | 3,600 flight cycles.

Repetitive Inspections of “Standard Areas” and Repair or Modification if Necessary

(i) For airplanes on which an eddy current inspection of the “standard” areas of the longitudinal lap joints has not been done before the effective date of this AD in accordance with the Accomplishment Instructions of Airbus Mandatory Service Bulletin A300-53-0211: At the applicable time specified in Tables 3 and 4 of this AD, do an eddy current inspection for cracking of the longitudinal lap joints in the “standard” areas, in accordance with the Accomplishment Instructions of Airbus Mandatory Service Bulletin A300-53-0211, Revision 07, dated December 1, 2006. Repeat the inspection thereafter at the applicable intervals specified in Tables 3 and 4 of this AD. If any crack is found during any inspection required by this paragraph, repair or modify before further flight, in accordance with the Accomplishment Instructions of Airbus Mandatory Service Bulletin A300-53-0211, Revision 07, dated December 1, 2006, and do the applicable inspection of the applicable area specified in Tables 3 and 4 of this AD. “Standard” areas of the longitudinal lap joints are defined in Airbus Mandatory Service Bulletin A300-53-0211, Revision 07, dated December 1, 2006.

Table 3—Initial Compliance Times and Repetitive Intervals for Inspecting Standard Areas of the Longitudinal Lap Joints
For airplanes— | Before the accumulation of— | Inspect standard area— | Repeat at intervals not to exceed—
All | 32,000 total flight cycles | STGR5, 13, 22 LH and RH, STGR31 LH (FR18 through FR26) | 3,600 flight cycles.
All | 32,000 total flight cycles | STGR27 RH, STGR39 RH (FR18 through FR20A, FR25A, FR26) | 8,000 flight cycles.
All | 32,000 total flight cycles | STGR43 LH, STGR46 RH, STGR51 LH (FR19 through FR26) | 5,700 flight cycles.
All | 32,000 total flight cycles | STGR5 LH/RH (FR26 through FR40); STGR11 LH/RH (FR27 through FR32); STGR13 LH/RH (FR 26 through FR28, FR31 through FR40); STGR27 LH/RH (FR 27 through FR32); STGR43 LH/RH (FR 26 through FR39); STGR49 RH (FR26 through FR39) | 3,000 flight cycles.
All | 32,000 total flight cycles | STGR47 LH (FR26 through FR39) | 5,700 flight cycles.
All | 32,000 total flight cycles | STGR5, 13, 22 LH/RH (FR40 through FR54) | 5,000 flight cycles.
All except MSN 0003 | 32,000 total flight cycles | STGR13, 44, 52 LH/RH (FR54 through FR58); STGR22 LH/RH (FR54, FR55); STGR31 LH/RH (FR54 through FR58) | 3,600 flight cycles.

(j) For airplanes on which an eddy current inspection of the “standard” areas of the longitudinal lap joints has been done as of the effective date of this AD in accordance with the Accomplishment Instructions of Airbus Mandatory Service Bulletin A300-53-0211; except for airplanes on which a repair or modification of the “standard areas” has been done in accordance with Airbus Mandatory Service Bulletin A300-53-0211: Do the next inspection of the “standard” areas of the longitudinal lap joints at the earlier of the times specified in paragraphs (j)(1) and (j)(2) of this AD, in accordance with the Accomplishment Instructions of Airbus Mandatory Service Bulletin A300-53-0211, Revision 07, dated December 1, 2006. Thereafter, if no cracking is found, repeat the inspection at the applicable intervals specified in Tables 3 and 4 of this AD. If any crack is found during any inspection required by this paragraph, repair or modify before further flight, in accordance with the Accomplishment Instructions of Airbus Mandatory Service Bulletin A300-53-0211, Revision 07, dated December 1, 2006, and do the applicable inspection of the repaired or modified area in accordance with paragraph (k) of this AD. “Standard” areas of the longitudinal lap joints are defined in Airbus Mandatory Service Bulletin A300-53-0211, Revision 07, dated December 1, 2006.

Table 4—Initial Compliance Times and Repetitive Intervals for Inspecting Additional Standard Areas of the Longitudinal Lap Joints
For airplanes— | Before the accumulation of— | Inspect standard area— | Repeat at intervals not to exceed—
Pre-Mod 1398 | 32,000 total flight cycles | STGR5, 13 LH/RH 22 LH (FR58 through FR65); STGR31 LH (FR58 through FR72); STGR31 RH (FR65 through FR72) | 2,700 flight cycles.
All | 32,000 total flight cycles | STGR27 RH, STGR39 RH (FR58, FR59A, FR63A through FR65) | 8,000 flight cycles.
Post-Mod 1398 | 32,000 total flight cycles | STGR5, 13 LH/RH 22 LH (FR58 through FR65); STGR31 LH (FR58 through FR72); STGR 31 RH (FR65 through FR72) | 3,000 flight cycles.
Pre-Mod 1398 | 32,000 total flight cycles | STGR5, 13, 22 LH/RH (FR65 through FR72) | 2,300 flight cycles.
Post-Mod 1398 | 32,000 total flight cycles | STGR5, 13, 22 LH/RH (FR65 through FR72) | 3,000 flight cycles.
All | 32,000 total flight cycles | STGR44 LH (FR58 through FR72); STGR52 LH/RH (FR58 through FR65); STGR47 RH (FR58 through FR72); STGR57 LH (FR65 through FR72) | 3,000 flight cycles.
All | 24,000 total flight cycles | STGR22 RH (FR58 through FR65) | 3,000 flight cycles.
All | 32,000 total flight cycles | STGR6 LH/RH (FR72 through FR80); STGR24 LH/RH (FR76 through FR80) | 3,000 flight cycles.
All | 32,000 total flight cycles | STRG17 LH/RH (FR76 through FR80); STGR29 LH/RH (FR72 through FR76); STGR35 LH/RH (FR72 through FR80) | 5,700 flight cycles.
All | 27,000 total flight cycles | STGR51 LH/RH (FR72 through FR80) | 5,700 flight cycles.

(1) Within the applicable time in paragraph (j)(1)(i) or (j)(1)(ii) of this AD after doing the last inspection of the “standard” areas of the longitudinal lap joints in accordance with Airbus Mandatory Service Bulletin A300-53-0211, Revision 07, dated December 1, 2006.

(i) For longitudinal lap joints with bonded doublers: 6,000 flight cycles.

(ii) For longitudinal lap joints without bonded doublers: 8,000 flight cycles.

(2) Within the applicable time specified in Tables 3 or 4 of this AD, or within 60 days after the effective date of this AD, whichever occurs later.

Post-Repair or Modification Inspections and Repair or Modification if Necessary

(k) For airplanes on which a repair or modification has been done in accordance with the Accomplishment Instructions of Airbus Mandatory Service Bulletin A300-53-0211: At the applicable initial inspection time specified in Table 5 of this AD, do an eddy current inspection for cracking of the repaired or modified areas, in accordance with the Accomplishment Instructions of Airbus Mandatory Service Bulletin A300-53-0211, Revision 07, dated December 1, 2006. If no cracking is found, repeat the inspection thereafter at the applicable intervals specified in Table 5 of this AD. If any crack is found during any inspection required by this paragraph, repair or modify before further flight, in accordance with the Accomplishment Instructions of Airbus Mandatory Service Bulletin A300-53-0211, Revision 07, dated December 1, 2006.

Table 5—Post-Repair or Modification Compliance Time
Repair or retrofit solution/area—as identified in Airbus Mandatory Service Bulletin A300-53-0211— | Initial inspection after repair or retrofit— | Follow-up inspections at intervals not to exceed—
Repair 1: (Without cut out) also applicable to the solution with removed inner doubler | Skin/doubler thickness
| • < 1 inch: 10,000 flight cycles after repair | 1,000 flight cycles.
| • ≥ 1 inch and < 2 inch: 30,000 flight cycles after repair | 2,000 flight cycles.
| • ≥ 2 inch: 60,000 flight cycles after repair | 6,400 flight cycles.
Repair 4 (With cut out) | Within 32,000 flight cycles after repair | 5,000 flight cycles.
Repair 4A (With cut out) | Within 24,000 flight cycles after repair | 5,300 flight cycles.
Repair 7 (MSN 0095 at STGR52 LH in Section 16) | Within 37,000 flight cycles after repair | 12,000 flight cycles.
Repair 9 (MSN 0073 and 0095 STGR44 LH/RH in Sections 16 and 17) | Within 36,000 flight cycles after repair | 5,000 flight cycles.
Repair 10 (Post-repair inspections in Figure 13) | Within 20,000 flight cycles after repair | 11,000 flight cycles.
Repair 2 (With cut out) | Within 24,000 flight cycles after repair | 5,300 flight cycles.
Repair 3 (Without cut out) | Within 24,000 flight cycles after repair | 5,300 flight cycles.
Retrofit 1 (Retrofit lap joint) | Within 32,000 flight cycles after retrofit | 5,000 flight cycles.
Retrofit 2 Retrofit lower shell (4 panel solution) STGR43 LH (FR26 through FR39), STGR43 RH (FR26 through FR38), and STGR49 RH (FR26 through FR38) | Within 32,000 flight cycles after retrofit | 3,000 flight cycles.
Retrofit 2 Retrofit lower shell (4 panel solution) STGR46 RH (FR19 through FR26), and STGR47 LH (FR26 through FR39), and STGR51 LH (FR19 through FR26) | Within 32,000 flight cycles after retrofit | 5,700 flight cycles.
Retrofit 3 Retrofit lower shell (3 panel solution) STGR43 LH (FR26 through FR39), and STGR43 RH (FR26 through FR38) | Within 32,000 flight cycles after retrofit | 3,000 flight cycles.
Retrofit 3 Retrofit lower shell (3 panel solution) STGR46 RH (FR19 through FR26), and STGR51 LH (FR19 through FR26), and STGR54 LH (FR26 through FR39) | Within 32,000 flight cycles after retrofit | 5,700 flight cycles.
Retrofit 3A (STGR43 LH/RH between FR37 and FR39 in Section 14) | Within 32,000 flight cycles after retrofit | 5,000 flight cycles.
Retrofit 4 (Retrofit lap joint without cut out) | Within 42,000 flight cycles after retrofit | 5,000 flight cycles.
Retrofit 5 (Retrofit lap joint) | Within 42,000 flight cycles after retrofit | 5,000 flight cycles.
Retrofit 6 (Retrofit lap joint) | Within 34,000 flight cycles after retrofit | 12,000 flight cycles.
Retrofit 7 (Retrofit lap joint) | Within 47,600 flight cycles after retrofit | 5,400 flight cycles.

Fuselage Inner Doubler Inspections and Repair if Necessary

(l) For airplanes on which any inspections of the fuselage bonded inner doublers of the longitudinal lap joints in Sections 13 through 18 (except Sections 16 and 17 at Stringer 31 left-hand and right-hand) for disbonding and cracking have not been done as of the effective date of this AD in accordance with Airbus Service Bulletin A300-53-229: Prior to the accumulation of 24,000 total flight cycles or within 15 years since new, whichever occurs first; or within 60 days after the effective date of this AD; whichever occurs later, do a detailed inspection of the fuselage bonded inner doublers of the longitudinal lap joints in Sections 13 through 18 (except Sections 16 and 17 at Stringer 31 left-hand and right-hand) for disbonding and cracking, in accordance with the Accomplishment Instructions of Airbus Service Bulletin A300-53-229, Revision 5, dated April 8, 1997. If no disbonding and no cracking is found, repeat the inspection thereafter at the applicable intervals specified in Table 6 of this AD.

Table 6—Repetitive Intervals for Inspections for Disbonding and Cracking
For area— | Inspect at intervals not to exceed—
Sections 13 and 14 as specified in Airbus Service Bulletin A300-53-229, Revision 5, dated April 8, 1997 | Within 7 years or 12,000 flight cycles after doing the inspection, whichever occurs first.
Sections 15 through 18 as specified in Airbus Service Bulletin A300-53-229, Revision 5, dated April 8, 1997 | Within 8.5 years or 12,000 flight cycles after doing the inspection, whichever occurs first.

(1) If no cracking is found and “minor” disbonding, as defined in Airbus Service Bulletin A300-53-229, Revision 5, dated April 8, 1997, is found: Repeat the inspection thereafter at intervals not to exceed 1 year for areas below stringer 22, and at intervals not to exceed 2 years for areas above and including stringer 22.

(2) If no cracking is found and “major” disbonding, as defined in Airbus Service Bulletin A300-53-229, Revision 5, dated April 8, 1997, is found: Within 1,000 flight cycles after doing the inspection, repair, in accordance with the Accomplishment Instructions of Airbus Service Bulletin A300-53-229, Revision 5, dated April 8, 1997.

(3) If any cracking is found, repair prior to further flight, in accordance with Airbus Service Bulletin A300-53-229, Revision 5, dated April 8, 1997.

(m) For airplanes on which any inspections of the fuselage bonded inner doublers of the longitudinal lap joints in Sections 13 through 18 (except Sections 16 and 17 at Stringer 31 left-hand and right-hand) for disbonding and cracking have been done as of the effective date of this AD in accordance with Airbus Service Bulletin A300-53-229; except for airplanes on which a repair of that area has been done in accordance with Airbus Service Bulletin A300-53-229: At the applicable time specified in Table 6 of this AD, or within 60 days after the effective date of this AD, whichever occurs later, do a detailed inspection of the fuselage bonded inner doublers of the longitudinal lap joints in Sections 13 through 18 (except Sections 16 and 17 at Stringer 31 left-hand and right-hand) for disbonding and cracking, in accordance with the Accomplishment Instructions of Airbus Service Bulletin A300-53-229, Revision 5, dated April 8, 1997. If no disbonding and no cracking is found, repeat the inspection at the applicable intervals specified in Table 6 of this AD.

(1) If no cracking is found and “minor” disbonding, as defined in Airbus Service Bulletin A300-53-229, Revision 5, dated April 8, 1997, is found: Repeat the inspection thereafter at intervals not to exceed 1 year for areas below stringer 22, and at intervals not to exceed 2 years for areas above and including stringer 22.

(2) If no cracking is found and “major” disbonding, as defined in Airbus Service Bulletin A300-53-229, Revision 5, dated April 8, 1997, is found: Within 1,000 flight cycles after doing the inspection, repair, in accordance with the Accomplishment Instructions of Airbus Service Bulletin A300-53-229, Revision 5, dated April 8, 1997.

(3) If any cracking is found, repair prior to further flight, in accordance with Airbus Service Bulletin A300-53-229, Revision 5, dated April 8, 1997.

(n) For airplanes on which any inspections of the fuselage bonded inner doublers of the longitudinal lap joints in Sections 16 and 17 at Stringer 31 left-hand and right-hand for disbonding and cracking have not been done as of the effective date of this AD in accordance with Airbus Service Bulletin A300-53-229: Prior to the accumulation of 24,000 total flight cycles or within 12 years since new, whichever occurs first; or within 60 days after the effective date of this AD; whichever occurs later, do a detailed inspection of the fuselage bonded inner doubles of the longitudinal lap joints in Sections 16 and 17 at Stringer 31 left-hand and right-hand for disbonding and cracking, in accordance with the Accomplishment Instructions of Airbus Service Bulletin A300-53-229, Revision 5, dated April 8, 1997. If no disbonding and no cracking is found, repeat the inspection thereafter at intervals not to exceed 7 years or 12,000 flight cycles, whichever occurs first.

(1) If no cracking is found and “minor” disbonding, as defined in Airbus Service Bulletin A300-53-229, Revision 5, dated April 8, 1997, is found: Repeat the inspection thereafter at intervals not to exceed 1 year for areas below stringer 22, and at intervals not to exceed 2 years for areas above and including stringer 22. Doing a repair in accordance with Airbus Service Bulletin A300-53-229, Revision 5, dated April 8, 1997, terminates the repetitive inspections required by this paragraph for that area.

(2) If no cracking is found and “major” disbonding, as defined in Airbus Service Bulletin A300-53-229, Revision 5, dated April 8, 1997, is found: Within 1,000 flight cycles after doing the inspection, repair, in accordance with the Accomplishment Instructions of Airbus Service Bulletin A300-53-229, Revision 5, dated April 8, 1997.

(3) If any cracking is found, repair prior to further flight, in accordance with Airbus Service Bulletin A300-53-229, Revision 5, dated April 8, 1997.

(o) For airplanes on which any inspections of the fuselage bonded inner doublers of the longitudinal lap joints in Sections 16 and 17 at Stringer 31 left-hand and right-hand for disbonding and cracking have been done as of the effective date of this AD in accordance with Airbus Service Bulletin A300-53-229; except airplanes on which a repair of that area has been done in accordance with Airbus Service Bulletin A300-53-229: Within 7 years or 12,000 flight cycles after doing the inspection, whichever occurs first; or within 60 days after the effective date of this AD; whichever occurs later, do a detailed inspection of the fuselage bonded inner doubles of the longitudinal lap joints in Sections 16 and 17 at Stringer 31 left-hand and right-hand for disbonding and cracking in accordance with the Accomplishment Instructions of Airbus Service Bulletin A300-53-229, Revision 5, dated April 8, 1997. If no disbonding and corrosion are found, repeat the inspection thereafter at intervals not to exceed 7 years or 12,000 flight cycles, whichever occurs first.

(1) If no cracking is found and “minor” disbonding, as defined in Airbus Service Bulletin A300-53-229, Revision 5, dated April 8, 1997, is found: Repeat the inspection thereafter at intervals not to exceed 1 year for areas below stringer 22, and at intervals not to exceed 2 years for areas above and including stringer 22. Doing a repair in accordance with Airbus Service Bulletin A300-53-229, Revision 5, dated April 8, 1997, terminates the repetitive inspections required by this paragraph for that area.

(2) If no cracking is found and “major” disbonding, as defined in Airbus Service Bulletin A300-53-229, Revision 5, dated April 8, 1997, is found: Within 1,000 flight cycles after doing the inspection, repair, in accordance with the Accomplishment Instructions of Airbus Service Bulletin A300-53-229, Revision 5, dated April 8, 1997.

(3) If any cracking is found, repair prior to further flight, in accordance with Airbus Service Bulletin A300-53-229, Revision 5, dated April 8, 1997.

(p) Although Airbus Service Bulletin A300-53-229, Revision 5, dated April 8, 1997; and Airbus Mandatory Service Bulletin A300-53-0211, Revision 07, dated December 1, 2006; specify to submit certain information to the manufacturer, this AD does not include that requirement.

FAA AD Differences

Note 1: This AD differs from the MCAI and/or service information as follows:

(1) Although the MCAI or service information allows further flight after cracks are found during compliance with the required action, this AD requires that you repair the crack(s) before further flight.

(2) The MCAI or service information does not include enforceable compliance times for certain actions; however, this AD requires that those actions be done at the enforceable times specified in this AD.

(3) Although the MCAI or service information tells you to submit information to the manufacturer, paragraph (p) of this AD specifies that such submittal is not required.

Other FAA AD Provisions

(q) The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue, SW., Renton, Washington 98057-3356; telephone (425) 227-2125; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(r) Refer to MCAI European Aviation Safety Agency Airworthiness Directive 2007-0091, dated April 10, 2007, corrected June 23, 2008; Airbus Service Bulletin A300-53-229, Revision 5, dated April 8, 1997; and Airbus Mandatory Service Bulletin A300-53-0211, Revision 07, dated December 1, 2006; for related information.

Material Incorporated by Reference

(s) You must use Airbus Service Bulletin A300-53-229, Revision 5, dated April 8, 1997, including Appendix A300SB/53-229, dated April 10, 1989; and Airbus Mandatory Service Bulletin A300-53-0211, Revision 07, dated December 1, 2006; as applicable; to do the actions required by this AD, unless the AD specifies otherwise. Only pages 1, 2, 5, 11, and 12, of Airbus Service Bulletin A300-53-229, Revision 5, dated April 8, 1997, show revision level 5 and issue date April 8, 1997; pages 3, 4-10, and 13-17 show revision level 4 and issue date March 30, 1994, and pages 1-17 of Appendix A300SB/53-229 show issue date April 10, 1989.

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail account.airworth-eas@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on September 23, 2011.
Ali Bahrami,
Manager, Transport Airplane Directorate, Aircraft Certification Service.

[FR Doc. 2011-25617 Filed 10-11-11; 8:45 am]

BILLING CODE 4910-13-P